DEPARTMENT OF TRANSPORTATION

Federal Aviation Administration

[Docket No. FAA-2022-0455]

Agency Information Collection Activities: Requests for Comments; Clearance of a Renewed Approval of Information Collection: Certification of Airmen for the Operation of Light-Sport Aircraft

AGENCY: Federal Aviation Administration (FAA), DOT.

ACTION: Notice and request for comments.

SUMMARY: In accordance with the Paperwork Reduction Act of 1995, FAA invites public comments about our intention to request Office of Management and Budget (OMB) approval to renew an information collection. The Federal Register Notice with a 60-day comment period soliciting comments on the following collection of information was published on June 6, 2022. The information to be collected is necessary to ensure compliance with regulations governing the training and certification of light-sport pilots and instructors.

DATES: Written comments should be submitted by July 29, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Craig Holmes by email at: craig.holmes@faa.gov; phone: 202-267-1607.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0690.

Title: Certification of Airmen for the Operation of Light-Sport Aircraft.

Form Numbers: 8710-11.

Type of Review: Renewal.

Background: The Federal Register Notice with a 60-day comment period soliciting comments on the following collection of information was published on June 6, 2022 (87 FR 20497). This information collection requires applicants for certification as sport pilots to complete FAA form 8710-11, log training, take and pass a knowledge test, and requires organizations to develop and maintain training courses for sport pilots. The total of sport pilot applicants is estimated to be 500, with a burden of 734 hours. In addition, applications for certification as sport pilot instructors are required to take and pass a knowledge test, submit to a flight review, and purchase a training course. This affects an estimated 40 applicants, with a total annual burden of 33 hours.

Respondents: Sport Pilots and Certificated Flight Instructors.

Frequency: On occasion.

Estimated Average Burden per Response: 10 minutes.

Estimated Total Annual Burden: 767 hours.

Issued in Washington, DC, on June 24, 2022.
Dwayne C. Morris,
Project Manager, Flight Standards Service, General Aviation and Commercial Division.

[FR Doc. 2022-13886 Filed 6-28-22; 8:45 am]

BILLING CODE 4910-13-P